DEPARTMENT OF COMMERCE

National Oceanic and Atmospheric Administration

50 CFR Parts 600 and 660

[Docket No. 991223347-9347; I.D. 042600B]

Fisheries Off West Coast States and in the Western Pacific; Pacific Coast Groundfish Fishery; Trip Limit Adjustments

Correction

In rule document 00-11108 beginning on page 25881 in the issue of Thursday, May 4, 2000, make the following corrections:

1. On page 25882, in the first column, in the first paragraph, in the fourth line, “1,000 (454 kg)” should read “1,000 lb (454 kg)”.

2. On the same page, in the third column, in the second paragraph, in the ninth line, “2,100 (953 kg)” should read “2,100 lb (953 kg)”.

3. On page 25885, in the second column, in section IV, in paragraph C(4), in the first line, “the area between 45°20′15″N.lat.” should read “the area between 45°03′50″N.lat. and 45°20′15″N.lat.”.

4. On the same page, in the third column, in the same section, in the same paragraph, in the third line, “October 1-December 31, 2000:” should read “(b) October 1-December 31, 2000:”.

[FR Doc. C0-11108 Filed 5-22-00; 8:45 am]

BILLING CODE 1505-01-D

ENVIRONMENTAL PROTECTION AGENCY

40 CFR Part 444

[FRL-6503-6]

RIN 2040-AC23

Effluent Limitations Guidelines, Pretreatment Standards, and New Source Performance Standards for the Commercial Hazardous Waste Combustor Subcategory of the Waste Combustors Point Source Category

Correction

In rule document 00-2019 beginning on page 4360 in the issue of Thursday, January 27, 2000, make the following corrections:

1. On page 4379, in the second column, in the eighth paragraph, remove the duplicated text under the heading “Commercial Hazardous Waste Combustor”.

§444.12 [Corrected]

2. On page 4382, in the table, in the fourth column, the entry under “ASTM” in the third line, “2972-93(A)” should read “D2972-93(A)”.

[FR Doc. C0-2019 Filed 5-22-00; 8:45 am]

BILLING CODE 1505-01-D

DEPARTMENT OF THE INTERIOR

Bureau of Indian Affairs

Indian Gaming

Correction

In notice document 00-12321 appearing on page 31189 in the issue of Tuesday, May 16, 2000 make the following correction:

In the third column, in the fourth line from the bottom,“Levin” should read “Kevin”.

[FR Doc. C0-12321 Filed 5-22-00; 8:45 am]

BILLING CODE 1505-01-D